INTERNATIONAL TRADE COMMISSION

[Investigations Nos. 701-TA-362 and 731-TA-707-710 (Review)]

Certain Seamless Carbon and Alloy Steel Standard, Line, and Pressure Pipe From Argentina, Brazil, Germany, and Italy

Determinations

On the basis of the record ¹ developed in these subject five-year reviews, the United States International Trade Commission determines, pursuant to section 751(c) of the Tariff Act of 1930 (19 U.S.C. 1675(c)) (the Act), that revocation of the antidumping duty orders on certain seamless carbon and alloy steel standard, line, and pressure pipe from Argentina, Brazil, and Germany would be likely to lead to continuation or recurrence of material injury to an industry in the United States within a reasonably foreseeable time. The International Trade Commission also determines ² that revocation of the antidumping duty and countervailing duty orders on certain seamless carbon and alloy steel standard, line, and pressure pipe from Italy would not be likely to lead to continuation or recurrence of material injury to an industry in the United States within a reasonably foreseeable time.

¹ The record is defined in sec. 207.2(f) of the Commission's Rules of Practice and Procedure (19 CFR § 207.2(f)).

² Commissioner Dennis M. Devaney dissenting.

Background

The Commission instituted these reviews on July 3, 2000 (65 FR 41090) and determined on October 5, 2000, that it would conduct full reviews (65 FR 63889, October 25, 2000). Notice of the scheduling of the Commission's reviews and of a public hearing to be held in connection therewith was given by posting copies of the notice in the Office of the Secretary, U.S. International Trade Commission, Washington, DC, and by publishing the notice in the Federal Register on January 4, 2001 (66 F.R. 806). The hearing was held in Washington, DC, on May 1, 2001, and all persons who requested the opportunity were permitted to appear in person or by counsel.

The Commission transmitted its determinations in these reviews to the Secretary of Commerce on June 26, 2001. The views of the Commission are contained in USITC Publication 3429 (June 2001), entitled Certain Seamless Carbon and Alloy Steel Standard, Line, and Pressure Pipe from Argentina, Brazil, Germany, and Italy: Investigations Nos. 701-TA-362 and 731-TA-707-710 (Review).

Issued: June 26, 2001.
By order of the Commission.
Donna R. Koehnke,
Secretary.

[FR Doc. 01-16460 Filed 6-28-01; 8:45 am]

BILLING CODE 7020-02-P